DEPARTMENT OF ENERGY

Federal Energy Regulatory Commission

[Docket No. RP03-481-000]

Transwestern Pipeline Company; Notice of Filing

May 30, 2003.

Take notice that on May 23, 2003, Transwestern Pipeline Company (Transwestern) tendered for filing a copy of an Operator Balancing Agreement between Transwestern and Unocal Keystone Gas Storage, LLC.

Transwestern states that Transwestern and Unocal Keystone Gas Storage, LLC have entered into an Operator Balancing Agreement that contains several provisions that are supplemental to the form of operator balancing agreement (OBA) set forth in Transwestern's tariff. In accordance with Section 15.5 of the General Terms and Conditions of Transwestern's tariff, Transwestern must file with the Commission any supplemental provisions contained in an OBA entered into by Transwestern that are not reflected in the form of OBA set forth in the tariff.

Any person desiring to be heard or to protest said filing should file a motion to intervene or a protest with the Federal Energy Regulatory Commission, 888 First Street, NE., Washington, DC 20426, in accordance with Sections 385.214 or 385.211 of the Commission's Rules and Regulations. All such motions or protests must be filed on or before the intervention and protest date as shown below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 6, 2003.

Magalie R. Salas,
Secretary.

[FR Doc. 03-14241 Filed 6-5-03; 8:45 am]

BILLING CODE 6717-01-P